DEPARTMENT OF DEFENSE

Defense Acquisition Regulation System

[Docket Number 2015-0013]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. chapter 35).

DATES: Consideration will be given to all comments received by August 28, 2015.

SUPPLEMENTARY INFORMATION:

Title, Associated Forms, and OMB Number: Defense Federal Acquisition Regulation Supplement (DFARS) part 243, Contract Modifications, and the related clause at DFARS 252.243-7002; OMB Control Number 0704-0397.

Type of Request: Extension.

Number of Respondents: 328.

Responses Per Respondent: 1.6, approximately.

Annual Responses: 520.

Average Burden Per Response: 4.8 hours, approximately.

Annual Burden Hours: 2,483.

Needs and Uses: The information collection required by the clause at DFARS 252.243-7002, Requests for Equitable Adjustment, implements 10 U.S.C. 2410(a). The clause at DFARS 252.243-7002 is prescribed at DFARS 243.205-71 for use in solicitations and contracts, including solicitations and contracts using FAR part 12 procedures for the acquisition of commercial items that are estimated to exceed the simplified acquisition threshold. The clause requires contractors to certify that requests for equitable adjustment that exceed the simplified acquisition threshold are made in good faith and that the supporting data are accurate and complete. The clause also requires contractors to fully disclose all facts relevant to the requests for adjustment. DoD contracting officers and auditors use this information to evaluate contractor requests for equitable adjustments to contracts.

Affected Public: Businesses or other for-profit and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the Internet at http://www.regulations.gov as they are received without change, including any personal identifiers or contact information provided. To confirm receipt of your comment(s), please check http://www.regulations.gov approximately two to three days after submission to verify posting (except allow 30 days for posting of comments submitted by mail).

DoD Public Collections Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Amy G. Williams,
Editor, Defense Acquisition Regulations System.

[FR Doc. 2015-18590 Filed 7-28-15; 8:45 am]

BILLING CODE 5001-06-P